CONSUMER PRODUCT SAFETY COMMISSION

[Docket No. CPSC-2012-0055]

Agency Information Collection Activities; Proposed Collection; Comment Request; Flammability Standards for Children's Sleepwear

AGENCY: Consumer Product Safety Commission.

ACTION: Notice.

SUMMARY: Pursuant to the Paperwork Reduction Act of 1995, the Consumer Product Safety Commission (Commission or CPSC) requests comment on a proposed extension of approval for the information collection requirements associated with the Standard for the Flammability of Children's Sleepwear: Sizes 0 Through 6X and the Standard for the Flammability of Children's Sleepwear: Sizes 7 Through 14, approved previously under OMB Control No. 3041-0027. CPSC will consider all comments received in response to this notice before requesting an extension of this collection of information from the Office of Management and Budget (OMB).

DATES: Submit written or electronic comments on the collection of information by July 11, 2022.

ADDRESSES: You may submit comments, identified by Docket No. CPSC-2012-0055, by any of the following methods:

Electronic Submissions: Submit electronic comments to the Federal eRulemaking Portal at: https://www.regulations.gov. Follow the instructions for submitting comments. CPSC typically does not accept comments submitted by electronic mail (email), except as described below. CPSC encourages you to submit electronic comments by using the Federal eRulemaking Portal, as described above.

Mail/Hand Delivery/Courier/Confidential Written Submissions: Submit comments by mail, hand delivery, or courier to: Division of the Secretariat, Consumer Product Safety Commission, 4330 East-West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2012-0055, into the “Search” box, and follow the prompts.

FOR FURTHER INFORMATION CONTACT: Cynthia Gillham, Consumer Product Safety Commission, 4330 East-West Highway, Bethesda, MD 20814; (301) 504-7991, or by email to: cgillham@cpsc.gov.

SUPPLEMENTARY INFORMATION: CPSC seeks to renew the following currently approved collection of information:

Title: Standard for the Flammability of Children's Sleepwear: Sizes 0 Through 6X; and the Standard for the Flammability of Children's Sleepwear: Sizes 7 Through 14.

OMB Number: 3041-0027.

Type of Review: Renewal of collection.

Frequency of Response: On occasion.

Affected Public: Manufacturers and importers of children's sleepwear.

Estimated Number of Respondents: Based on a review of past inspections and published industry information, CPSC staff estimates that there could be as many as 866 domestic children's apparel manufacturers in the United States subject to the rule. However, not all these manufacturers will produce children's sleepwear. Therefore, this figure is likely an overestimate of the actual number of firms performing tests and creating records in any given year. Furthermore, using the Harmonized Tariff System (HTS) codes for children's sleepwear, CPSC staff found approximately 3,641 importers that supply children's sleepwear to the U.S. market. Many of the 866 domestic manufacturers, along with many large U.S. retailers, may be among the importers. However, if all 866 U.S. producers and, in addition, all 3,641 importers did introduce new children's sleepwear garments each year, the total number of firms subject to the CPSC recordkeeping requirements each year would be 4,507 (866 + 3,641). As noted, the actual number of firms is likely lower.

Estimated Time per Response: Testing and recordkeeping of each sleepwear item is approximately 3 hours.

Total Estimated Annual Burden: The 50 largest domestic manufacturers and the 100 largest importers may each introduce an average of 100 new children's sleepwear items annually. The annual burden for the 50 large domestic manufacturers and the 100 largest importers is estimated at 45,000 hours for testing and recordkeeping (150 firms × 100 items × 3 hours). Without adjusting for possible double-counting, CPSC staff estimates that the remaining 816 manufacturers and 3,541 importers may each introduce an average of 10 new children's sleepwear items, for a total testing and recordkeeping burden of 130,710 hours (4,357 × 10 items × 3 hours.) Therefore, the total estimated potential annual burden imposed by the standard and regulations on all manufacturers and importers of children's sleepwear will be about 175,710 hours (45,000 + 130,710). The annual cost to the industry is estimated to be $12,369,984 based on an hourly wage of $70.40 × 175,710 hours.¹

¹ U.S. Bureau of Labor Statistics, “Employer Costs for Employee Compensation,” December 2021, Table 4, total compensation for management, professional, and related workers in goods-producing private industries: http://www.bls.gov/ncs.

Description of Collection: The Standard for the Flammability of Children's Sleepwear: Sizes 0 through 6X (16 CFR part 1615) and the Standard for the Flammability of Children's Sleepwear: Sizes 7 through 14 (16 CFR part 1616) address the fire hazard associated with small-flame ignition sources for children's sleepwear manufactured for sale in, or imported into, the United States. The standards also require manufacturers and importers of children's sleepwear to collect information resulting from product testing, and maintenance of the testing records. 16 CFR part 1615, subpart B; 16 CFR part 1616; subpart B.

Request for Comments

CPSC solicits written comments from all interested persons about the proposed collection of information. CPSC specifically solicits information relevant to the following topics:

—Whether the collection of information described above is necessary for the proper performance of the CPSC's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Brenda C. Rouse,
Acting Secretary, Consumer Product Safety Commission.

[FR Doc. 2022-10070 Filed 5-10-22; 8:45 am]

BILLING CODE 6355-01-P